DEPARTMENT OF TRANSPORTATION

Federal Aviation Administration

Notice of Public Availability of an Environmental Assessment (EA) and Finding of No Significant Impact/Record of Decision (FONSI/ROD) for Proposed Northeast Cargo Area Improvements at Chicago O'Hare International Airport (ORD) Located in Chicago, IL

AGENCY: Federal Aviation Administration (FAA), Department of Transportation (DOT).

ACTION: Notice of Availability of an EA and FONSI/ROD for Proposed Northeast Cargo Area Improvements at Chicago O'Hare International Airport.

SUMMARY: The FAA is making available the EA and FONSI/ROD for Proposed Northeast Cargo Area Improvements at Chicago O'Hare International Airport. The EA was prepared in accordance with the National Environmental Policy Act (NEPA) of 1969, as amended, FAA Orders 1050.1E, “Environmental Impacts: Policies and Procedures” and FAA Order 5050.4B, “NEPA Implementing Instructions for Airport Actions”. The FONSI/ROD contains FAA's findings that no significant environmental impacts would result from the project and contains all needed approvals for the action to proceed.

Point of Contact: Ms. Amy Hanson, Environmental Protection Specialist, CHI-603, Federal Aviation Administration, Chicago Airport District Office, 2300 East Devon Avenue, Des Plaines, IL 60018. Telephone number: 847-294-7354.

SUPPLEMENTARY INFORMATION: The FAA is making an EA and FONSI/ROD for the evaluation of environmental impacts associated with the proposed Northeast Cargo Area Improvements for the Chicago O'Hare International Airport (the Airport), located in Chicago, Illinois. The proposed project consists of developing a consolidated cargo complex that groups multiple cargo warehouses around a shared apron with airfield access, parking/truck docks, and landside access over approximately 122 acres in the Northeast Quadrant/former military area of the existing airfield. The project is proposed to be completed in three phases (Phases 1, 2, and 3). The Proposed Action would consolidate the proposed collateral development parcels identified on the Approved ALP in the Northeast Quadrant and maintain the current alignment of Bessie Coleman Drive (different from the approved ALP) to provide a contiguous area for cargo facility development. The proposed project would not cause significant impacts to any of the environmental resources evaluated in the EA and the FONSI/ROD contains all needed approvals for the action to proceed. Further information is available from the point of contact listed above. These documents will be available for public review during normal business hours at the Chicago Airport District Office, 2300 East Devon Avenue, Des Plaines, IL 60018. Please call the point of contact prior to visiting this office.

Issued in Des Plaines, Illinois, November 26, 2008.
James G. Keefer,
Manager, Chicago Airport District Office, FAA, Great Lakes Region.

[FR Doc. E8-29828 Filed 12-17-08; 8:45 am]

BILLING CODE 4910-13-M